DEPARTMENT OF TRANSPORTATION

Federal Aviation Administration

[Docket No.: FAA-2025-0301; Summary Notice No. 2025-46]

Petition for Exemption; Summary of Petition Received; Helicopter Consultants of Maui dba Blue Hawaiian Helicopters

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before September 8, 2025.

ADDRESSES: Send comments identified by docket number FAA-2025-0301 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Sean O'Tormey, Office of Rulemaking, Federal Aviation Administration, 800 Independence Avenue SW, Washington, DC 20591, at 202-267-9677.

This notice is published pursuant to 14 CFR 11.85.

Issued in Washington, DC.
Dan A. Ngo,
Manager, Part 11 Petitions Branch, Office of Rulemaking.

Petition for Exemption

Docket No.: FAA-2025-0301.

Petitioner: Helicopter Consultants of Maui dba Blue Hawaiian Helicopters.

Section of 14 CFR Affected: § 136.75(d)(1).

Description of Relief Sought: The petitioner is seeking an exemption from § 136.75(d)(1) to be able to fly below the 1,500-foot minimum altitude above the surface in specific areas on the islands of O'ahu, Maui, Moloka'i and Hawai'i (the Big Island) in the State of Hawaii. Several of these areas include specific Razor Back ridge crossings. Petitioner is seeking this relief from § 136.75(d)(1) because a lower altitude in the listed areas of the islands of the State of Hawai'i combined with the correct equipment and training is a safer altitude to conduct air tours in these areas that will also limit the impact to the public.

[FR Doc. 2025-15648 Filed 8-15-25; 8:45 am]

BILLING CODE 4910-13-P